DEPARTMENT OF ENERGY

Office of Energy Efficiency and Renewable Energy

[Case No. CAC-041]

Notice of Petition for Waiver of ECR (ECR) International, Inc. From the Department of Energy Residential Central Air Conditioners and Heat Pumps Test Procedure, and Grant of Interim Waiver

AGENCY: Office of Energy Efficiency and Renewable Energy, Department of Energy.

ACTION: Notice of petition for waiver, notice of grant of interim waiver, and request for comments.

SUMMARY: This notice announces receipt of and publishes a petition for waiver and application for interim waiver (“petition”) from ECR International, Inc. (ECR) regarding specified portions of the U.S. Department of Energy (DOE) test procedure for determining the energy consumption of residential central air conditioners and heat pumps. In its petition, ECR provides an alternate test procedure specific to EMI multi-zone unitary small air conditioners and heat pumps. DOE solicits comments, data, and information concerning ECR's petition and the suggested alternate test procedure. Today's notice also grants ECR an interim waiver from the existing DOE test procedures for the subject EMI (Enviromaster International) multi-zone unitary small air conditioners and heat pumps.

DATES: DOE will accept comments, data, and information with respect to the ECR Petition until, but no later than September 5, 2013.

ADDRESSES: You may submit comments, identified by case number “CAC-041,” by any of the following methods:

• Federal eRulemaking Portal: http://www.regulations.gov. Follow the instructions for submitting comments.

• Email: AS_Waiver_Requests@ee.doe.gov Include the case number [Case No. CAC-041] in the subject line of the message.

• Mail: Ms. Brenda Edwards, U.S. Department of Energy, Building Technologies Program, Mailstop EE-2J/1000 Independence Avenue SW., Washington, DC 20585-0121. Telephone: (202) 586-2945. Please submit one signed original paper copy.

• Hand Delivery/Courier: Ms. Brenda Edwards, U.S. Department of Energy, Building Technologies Program, 950 L'Enfant Plaza SW., Suite 600, Washington, DC 20024. Please submit one signed original paper copy.

Docket: For access to the docket to review the background documents relevant to this matter, you may visit the U.S. Department of Energy, 950 L'Enfant Plaza SW., Washington, DC, 20024; (202) 586-2945, between 9:00 a.m. and 4:00 p.m., Monday through Friday, except Federal holidays. Available documents include the following items: (1) this notice; (2) public comments received; (3) the petition for waiver and application for interim waiver; and (4) prior DOE waivers and rulemakings regarding similar refrigerator-freezer products. Please call Ms. Brenda Edwards at the above telephone number for additional information.

FOR FURTHER INFORMATION CONTACT: Mr. Bryan Berringer, U.S. Department of Energy, Building Technologies Program, Mail Stop EE-2J, Forrestal Building, 1000 Independence Avenue SW., Washington, DC 20585-0121. Telephone: (202) 586-0371. Email: Bryan.Berringer@ee.doe.gov.

Ms. Jennifer Tiedeman, U.S. Department of Energy, Office of the General Counsel, Mail Stop GC-71, Forrestal Building, 1000 Independence Avenue SW., Washington, DC 20585-0103. Telephone: (202) 287-6111. Email: mailto:Jennifer.Tiedeman@hq.doe.gov.

SUPPLEMENTARY INFORMATION:

I. Background and Authority

Title III, Part B of the Energy Policy and Conservation Act of 1975 (EPCA), Public Law 94-163 (42 U.S.C. 6291-6309, as codified), added by Public Law 95-619, Title IV, § 441(a), established the Energy Conservation Program for Consumer Products Other Than Automobiles, a program covering most major household appliances, which includes the residential central air conditioners and heat pumps that are the focus of this notice.¹ Part B includes definitions, test procedures, labeling provisions, energy conservation standards, and the authority to require information and reports from manufacturers. Further, Part B authorizes the Secretary of Energy to prescribe test procedures that are reasonably designed to produce results which measure the energy efficiency, energy use, or estimated annual operating costs of a covered product, and that are not unduly burdensome to conduct. (42 U.S.C. 6293(b)(3)) The test procedure for residential central air conditioners and heat pumps is contained in 10 CFR part 430, subpart B, appendix M (referred to in this notice as “Appendix M”).

¹ For editorial reasons, upon codification in the U.S. Code, Part B was re-designated Part A.

The regulations set forth in 10 CFR 430.27 contain provisions that enable a person to seek a waiver from the test procedure requirements for covered products. The Assistant Secretary for Energy Efficiency and Renewable Energy (the Assistant Secretary) will grant a waiver if it is determined that the basic model for which the petition for waiver was submitted contains one or more design characteristics that prevents testing of the basic model according to the prescribed test procedures, or if the prescribed test procedures may evaluate the basic model in a manner so unrepresentative of its true energy consumption characteristics as to provide materially inaccurate comparative data. 10 CFR 430.27(l). A petitioner must include in its petition any alternate test procedures known to the petitioner to evaluate the basic model in a manner representative of its energy consumption. The Assistant Secretary may grant the waiver subject to conditions, including adherence to alternate test procedures. 10 CFR 430.27(l). Waivers remain in effect pursuant to the provisions of 10 CFR 430.27(m).

The waiver process also allows the Assistant Secretary to grant an interim waiver from test procedure requirements to manufacturers that have petitioned DOE for a waiver of such prescribed test procedures. 10 CFR 430.27(g). An interim waiver remains in effect for 180 days or until DOE issues its determination on the petition for waiver, whichever occurs earlier. DOE may extend an interim waiver for an additional 180 days. 10 CFR 430.27(h).

II. Petition for Waiver of Test Procedure and Application for Interim Waiver

On March 26, 2013, ECR submitted a petition for waiver and application for interim waiver (“petition”) from the test procedure applicable to residential central air conditioners and heat pumps set forth in 10 CFR part 430, subpart B, appendix M. ECR seeks a waiver from the applicable test procedure because, ECR asserts that the prescribed test procedures yield results that are unrepresentative of actual energy consumption for ECR's Enviromaster International (“EMI”) line of multi-zone unitary small air conditioners and heat pumps. In its petition, ECR asserts that the DOE test procedures currently applicable to these products do not sufficiently address the unique configuration of those products, and therefore do not produce results that are (1) representative of their energy consumption characteristics or (2) consistent, accurate and repeatable. In order to be assured that it is correctly calculating the energy consumption of the product, that it meets the minimum energy requirements for its product class, and is properly labeled, ECR proposes to use an alternate test procedure for testing its models.

ECR also requests an interim waiver from the existing DOE test procedure. An interim waiver may be granted if it is determined that the applicant will experience economic hardship if the application for interim waiver is denied, if it appears likely that the petition for waiver will be granted, and/or the Assistant Secretary determines that it would be desirable for public policy reasons to grant immediate relief pending a determination of the petition for waiver. 10 CFR 430.27(g).

DOE has determined that ECR's application for interim waiver does not provide sufficient market, equipment price, shipments and other manufacturer impact information to permit DOE to evaluate the economic hardship ECR might experience absent a favorable determination on its application for interim waiver. However, DOE has determined based upon a technical evaluation of ECR's proposed alternate test method and the characteristics of the products addressed by the petition, that it is likely ECR's petition will be granted, and that it is desirable for public policy reasons to grant ECR relief pending a determination on the petition. DOE has determined that it is desirable to have similar basic models tested in a consistent manner.

For the reasons stated above, DOE grants ECR's application for interim waiver from testing of its multi-zone unitary small air conditioners and heat pumps product line. Therefore, it is ordered that:

The application for interim waiver filed by ECR is hereby granted for the specified ECR multi-zone unitary small air conditioners and heat pumps basic models, subject to the specifications and conditions below. ECR shall be required to test or rate the specified multi-zone unitary small air conditioners and heat pumps products according to the alternate test procedure as set forth in section III, “Alternate Test Procedure.”

The interim waiver applies to the following basic model groups:

S2CG2200D, S2CG9200D, S2CG9900D, T2CG2400D, T2CG4400D, T2CG8800D, T2CG9800D, T3CG2220D, T3CG2240D, T3CG9920D, T3CG9980D, T3CG9990D, T4CG2222D, T4CG9922D, T4CG9992D, T4CG9999D, S2HH2200D, S2HH9200D, S2HH9900D, T2HG2400D, T2HG4400D, T2HG8800D, T2HG9800D, T3HG2220D, T3HG2240D, T3HG9920D, T3HG9980D, T3HG9990D, T4HG2222D, T4HG9922D, T4HG9992D, T4HG9999D

DOE makes decisions on waivers and interim waivers for only those models specifically set out in the petition, not future models that may be manufactured by the petitioner. ECR may submit a subsequent petition for waiver and request for grant of interim waiver, as appropriate, for additional models of its multi-zone unitary small air conditioners and heat pumps for which it seeks a waiver from the DOE test procedure. In addition, DOE notes that a grant of an interim waiver or waiver does not release a petitioner from the certification requirements set forth at 10 CFR part 429.

Further, this interim waiver is conditioned upon the presumed validity of statements, representations, and documents provided by the petitioner. DOE may revoke or modify this interim waiver at any time upon a determination that the factual basis underlying the petition for waiver is incorrect, or upon a determination that the results from the alternate test procedure are unrepresentative of the basic models' true energy consumption characteristics.

III. Alternate Test Procedure

EPCA requires that manufacturers use DOE test procedures to make representations about the energy consumption and energy consumption costs of products covered by the statute. (42 U.S.C. 6293(c)) Consistent representations are important for manufacturers to use in making representations about the energy efficiency of their products and to demonstrate compliance with applicable DOE energy conservation standards. Pursuant to its regulations applicable to waivers and interim waivers from applicable test procedures at 10 CFR 430.27, DOE will consider setting an alternate test procedure for ECR in a subsequent Decision and Order.

In its petition, ECR states that for its multi-zone unitary small air conditioners and heat pumps models, tests using the DOE test procedure for residential central air conditioners and heat pumps at 10 CFR part 430, subpart B, appendix M (“Appendix M”) is inapplicable to their products and would result in measurements of energy use that are not representative of these models' actual energy use. Thus, during the period of the interim waiver granted in this notice, ECR shall test its multi-zone unitary small air conditioners and heat pump basic models according to the existing DOE test procedure at 10 CFR part 430, subpart B, appendix M with the modifications set forth below.

1. Section 3.1.4.1.2 is replaced with the following:

3.1.4.1.2 Cooling Full-load Air Volume Rate for Non-ducted Units. For non-ducted units, run the unit in a free air state (i.e., without the plenum, duct work, and air sampling apparatus attached to the outlet of the indoor unit) at the A test conditions. After condensate has dripped from the coil for no less than 10 minutes and air entering the indoor unit meets the specified test conditions, measure and record the blower motor RPM, current, and power consumption for each indoor unit. For all tests that require the Cooling Full-load Air Volume Rate, adjust the air flow until the blower motor has the same RPM, current, and power consumption as measured when operating in a free air state.

2. Section 3.1.4.4.4 is replaced with the following:

3.1.4.4.4 Non-ducted heat pumps, including non-ducted heating-only heat pumps. For non-ducted heat pumps, run the heat pump in a free air state (i.e., without the plenum, duct work, and air sampling apparatus attached to the outlet of the indoor unit) at the H1 test conditions. After the unit has operated for 30 minutes and the air entering the indoor unit meets the specified test conditioners, measure and record the blower motor RPM, current, and power consumption for each indoor unit. For all tests that require the Heating Full-load Air Volume Rate, adjust the air flow until the blower motor has the same RPM, current, and power consumption as measured when operating in a free air state.

3. In performance of section 3.1.7 when testing a non-ducted air conditioner, establish the Cooling Full-load Air Volume Rate first according to section 3.1.4.1.2 prior to conducting the A, B, C, or D tests. When testing a non-ducted heat pump establish the Heating Full-load Air Volume Rate first according to section 3.1.4.4.4. When conducting an optional cyclic test, always conduct it immediately after the steady-state test that requires the same test conditions. For variable-speed systems, the first test using the Cooling Minimum Air Volume Rate should precede the EV Test if one expects to adjust the indoor fan control options when preparing for the first Minimum Air Volume Rate test. Under the same circumstances, the first test using the Heating Minimum Air Volume Rate should precede the H2V Test. When testing multi-split systems where each indoor unit operates independently and has an independent refrigeration circuit, conduct a set of cooling and/or heating tests, if applicable, for each indoor unit individually, but run all units during each test. To measure the cooling capacity conduct the tests specified in section 3.2.1 for each indoor unit. To measure the heating performance, conduct the tests specified in section 3.6.1 for each indoor unit.

4. In section 3.3, perform the pretest interval in paragraph (a) as written, except for non-ducted units use the exhaust fan or the airflow measuring apparatus to obtain and then maintain the blower motor RPM, current, and power consumption as measured when operating in a free air state, according to section 3.1.4.1.2. Locate the pressure tap for each air handler first at the prescribed ASHRAE 41.2 distance of 2*SQRT(A*B) and then adjust the position by moving the installation point closer or further away from the air handler until the 0.0 inch of water column point is located.

For multi-split systems where each indoor unit operates independently and has an independent refrigeration circuit, sum the average total space cooling capacity of each individual indoor unit test and assign to Qc(T), and take the mean of the average electrical power consumption for each individual indoor unit test assign to Ec(T). Replace the “T” with the nominal outdoor temperature at which the test was conducted.

5. In performance of section 3.4, for multi-split systems where each indoor unit operates independently and has an independent refrigeration circuit, sum the total space cooling capacity of each individual indoor unit test and assign to Qss,dry, and take the mean of the average electrical power consumption for each individual indoor unit test and assign to Ess,dry.

6. In performance of section 3.5, for multi-split systems where each indoor unit operates independently and has an independent refrigeration circuit, sum the total space cooling of each individual indoor unit test and assign to qcyc,dry, and take the mean of the electrical energy consumption of each indoor unit test and assign to ecyc,dry.

7. In performance of section 3.5.3, for multi-split systems where each indoor unit operates independently and has an independent refrigeration circuit, take the average of the result from the cooling load factor calculation performed for each individual indoor unit test and assign to CLF.

8. In performance of section 3.7, the pretest interval of paragraph (a) shall be performed as written, except use the exhaust fan or the airflow measuring apparatus to obtain and then maintain the blower motor RPM, current, and power consumption as measured when operating in a free air state, according to section 3.1.4.4.4. Locate the pressure tap for each air handler first at the prescribed ASHRAE 41.2 distance of 2*SQRT(A*B) and then adjust the position by moving the installation point closer or further away from the air handler until the 0.0 inch of water column point is located.

To calculate the overall result of the section 3.7 tests for multi-split systems where each indoor unit operates independently and has an independent refrigeration circuit, sum the average space heating capacity of each individual indoor unit test and assign to Qh(T), and take the average of the electrical power consumption of each individual indoor unit test and assign to Eh(T). Replace the “T” with the nominal outdoor temperature at which the test was conducted.

9. In performance of section 3.8, for multi-split systems where each indoor unit operates independently and has an independent refrigeration circuit, sum the total space heating of each individual indoor unit test and assign to qcyc, and take the average of the electrical energy consumption of each individual indoor unit test and assign to ecyc.

10. In performance of section 3.8.1, for multi-split systems where each indoor unit operates independently and has an independent refrigeration circuit, take the mean of the result from the heating load factor calculation performed for each individual indoor unit test and assign to HLF.

11. In performance of section 3.9.1, for multi-split systems where each indoor unit operates independently and has an independent refrigeration circuit, perform the calculations specified in section 3.9.1a though section 3.9.1d, as needed, for each indoor unit and assign to Qhᵏ(35) the sum of the capacity results and assign to to Ehᵏ(35) the average of the power results.

12. In performance of section 3.9.2, for multi-split systems where each indoor unit operates independently and has an independent refrigeration circuit, determine the demand defrost credit for each indoor unit and assign the average of the result to Fdef.

13. In performance of section 3.10, for multi-split systems where each indoor unit operates independently and has an independent refrigeration circuit, sum the average space heating capacity of each individual indoor unit test and assign to Qhᵏ(17), and take the mean of the electrical power consumption of each indoor unit and assign to Ehᵏ(17).

IV. Summary and Request for Comments

Through today's notice, DOE announces receipt of ECR's petition for waiver from the test procedures applicable to residential central air conditioners and heat pumps, and grants an interim waiver to ECR. As part of this notice, DOE is publishing ECR's petition for waiver in its entirety pursuant to 10 CFR 431.401(b)(1)(iv). Confidential business information has been redacted from the petition. The petition includes a suggested alternate test procedure to measure the energy consumption of central air conditioners and heat pumps basic models. Furthermore, today's notice includes an alternate test procedure that ECR is required to follow as a condition of its interim waiver. ECR would be required to use this modified version of the Appendix M for testing and rating its products in accordance with the testing and certification requirements of 10 CFR part 429.

DOE solicits comments from interested parties on all aspects of the petition. Any person submitting written comments to DOE must also send a copy of such comments to the petitioner. 10 CFR 430.27(d). The contact information for the petitioner is: Ronald J. Passafaro, President and Chief Executive Officer, ECR International, Inc., 2201 Dwyer Ave., Utica, NY 13501. All submissions received must include the agency name and case number for this proceeding. Submit electronic comments in WordPerfect, Microsoft Word, Portable Document Format (PDF), or text (American Standard Code for Information Interchange (ASCII)) file format and avoid the use of special characters or any form of encryption. Wherever possible, include the electronic signature of the author. DOE does not accept telefacsimiles (faxes).

According to 10 CFR 1004.11, any person submitting information that he or she believes to be confidential and exempt by law from public disclosure should submit two copies to DOE: one copy of the document including all the information believed to be confidential, and one copy of the document with the information believed to be confidential deleted. DOE will make its own determination about the confidential status of the information and treat it according to its determination.

Issued in Washington, DC, on July 31, 2013.
Kathleen B. Hogan,
Deputy Assistant Secretary for Energy Efficiency, Energy Efficiency and Renewable Energy.

BILLING CODE 6450-01-P

[FR Doc. 2013-18950 Filed 8-5-13; 8:45 am]

BILLING CODE 6450-01-C